ENVIRONMENTAL PROTECTION AGENCY

[FRL-8198-6]

Science Advisory Board Staff Office; EPA Clean Air Scientific Advisory Committee (CASAC) CASAC Lead Review Panel; Notification of a Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAC) Lead Review Panel (CASAC Panel) to review the updated Executive Summary and Chapter 7 (Integrative Synthesis) of EPA's Air Quality Criteria for Lead (Second External Review Draft), Volumes I and II (EPA/600/R-05/144aB-bB, May 2006).

DATES: The teleconference meeting will be held on Tuesday, August 15, 2006, from 12 to 4 p.m. (Eastern Time).

FOR FURTHER INFORMATION CONTACT: Any member of the public who wishes to: Obtain the teleconference call-in number and access code; submit a written or brief oral statement (three minutes or less); or receive further information concerning this teleconference meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA SAB can be found on the EPA Web site at URL: http://www.epa.gov/sab.

SUPPLEMENTARY INFORMATION: Background: The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App. The CASAC Lead Review Panel, which consists of the seven CASAC members supplemented by subject-matter-expert Panelists, provides EPA with advice and recommendations concerning lead in ambient air. The CASAC Panel complies with the provisions of FACA and all appropriate SAB Staff Office procedural policies.

EPA is in the process of updating, and revising where appropriate, the air quality criteria document (AQCD) for Lead. Section 109(d)(1) of the CAA requires that EPA carry out a periodic review and revision, as appropriate, of the air quality criteria and the national ambient air quality standards (NAAQS) for the six “criteria” air pollutants, including Lead. On December 1, 2005, EPA's National Center for Environmental Assessment National, Research Triangle Park (NCEA-RTP), within the Agency's Office of Research and Development (ORD), made available for public review and comment a first draft document, Air Quality Criteria for Lead, Volumes I and II (EPA/600/R-05/144aA-bA). This AQCD represented an update to the previous EPA document, Air Quality Criteria for Lead, EPA-600/8-83/028aF-dF (published in June 1986) and an associated supplement (EPA-600/8-89/049F) published in 1990. Under CAA sections 108 and 109, the purpose of the updated AQCD is to provide an assessment of the latest scientific information on the effects of ambient Lead on the public health and welfare, for use in EPA's current review of the NAAQS for Lead. Detailed summary information on this first draft AQCD for lead is contained in a previous EPA Federal Register notice (70 FR 72300, December 2, 2005).

The CASAC Panel met in a public meeting on February 28 and March 1, 2006 to conduct its initial peer review of the first draft Lead AQCD. The report from that meeting, dated April 26, 2006, is posted on the SAB Web site at: http://www.epa.gov/sab/pdf/casac-06-005.pdf. In May 2006, NCEA-RTP released a second draft Lead AQCD (EPA/600/R-05/144aB-bB) for public review and comment. The CASAC Panel met in a public meeting on June 28 and 29, 2006 to conduct a peer review of the second draft Lead AQCD. The CASAC's report from that meeting is still under development and will be posted on the SAB Web site at: http://www.epa.gov/sab/fiscal06.htm upon completion. At its June 2006 public meeting, the CASAC Panel requested an opportunity to provide additional review of the revised draft Executive Summary and Chapter 7 (Integrative Synthesis) of the AQCD. The purpose of this teleconference is for the CASAC Panel to conduct this review.

Availability of Meeting Materials: The Air Quality Criteria for Lead (Second External Review Draft), Volumes I and II (May 2005) can be accessed via the Agency's NCEA Web site at: http://cfpub.epa.gov/ncea/cfm/recordisplay.cfm?deid=141779http://cfpub.epa.gov/ncea/cfm/recordisplay.cfm?deid=154041. NCEA-RTP plans to post the revised draft Executive Summary and Chapter 7 (Integrative Synthesis) on the NCEA Web Site by August 1, 2006. Any questions concerning the second draft Lead AQCD should be directed to Dr. Lori White, NCEA-RTP, at phone: (919) 541-3146, or e-mail: white.lori@epa.gov. A copy of the draft agenda for the CASAC teleconference and other meeting materials will be posted on the SAB Web site prior to this meeting at: http://www.epa.gov/sab/panels/casac_lead_review_panel.htm.

Procedures for Providing Public Input: Interested members of the public may submit relevant written or oral information for the CASAC Lead Review Panel to consider during the advisory process. Oral Statements: In general, individuals or groups requesting an oral presentation at a public teleconference will be limited to three minutes per speaker, with no more than a total of 30 minutes for all speakers. Interested parties should contact Mr. Butterfield, CASAC DFO, in writing (preferably via e-mail), by August 8, 2006, at the contact information noted above, to be placed on the list of public speakers for this meeting. Written Statements: Written statements should be received in the SAB Staff Office by August 11, 2006, so that the information may be made available to the CASAC Panel for their consideration prior to this teleconference. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: July 11, 2006.
Anthony F. Maciorowski,
Associate Director for Science, EPA Science Advisory Board Staff Office.

[FR Doc. E6-11247 Filed 7-14-06; 8:45 am]

BILLING CODE 6560-50-P